DEPARTMENT OF LABOR

Employment and Training Administration

[TA-W-57,802, TA-W-57,802A, TA-W-57,802B, TA-W-57,802C and TA-W-57,802D]

Sara Lee Branded Apparel Division Office, Including Employees, Winston-Salem, NC, Located in Bristol, Norwalk, Madison, and New Canaan, CT; Amended Certification Regarding Eligibility To Apply for Worker Adjustment Assistance and Negative Determination Regarding Eligibility To Apply for Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and a Negative Determination Regarding Eligibility to Apply for Alternative Trade Adjustment Assistance on September 28, 2005, applicable to workers of Sara Lee Branded Apparel, Division Office, Winston-Salem, North Carolina. The notice was published in the Federal Register on October 31, 2005 (70 FR 62347).

At the request of a company official and the State agency, the Department reviewed the certification for workers of the subject firm. New information shows that worker separations occurred involving four employees of the Division Office, Winston-Salem, North Carolina facility of the Sara Lee Branded Apparel located in Bristol, Connecticut, Norwalk, Connecticut, Madison, Connecticut and New Canaan, Connecticut. Ms. Sharon Allen, Ms. Susan McIntyre, Mr. Michael Hoban and Ms. Vivian Scanlon provided a variety of support function services for the activities related to the production of underwear (shorts and T-shirts) produced by the subject company.

Based on these findings, the Department is amending this certification to include employees of the Division Office, Winston-Salem, North Carolina facility of the Sara Lee Branded Apparel located in Bristol, Connecticut, Norwalk, Connecticut Madison, Connecticut and New Canaan, Connecticut.

The intent of the Department's certification is to include all workers of Sara Lee Branded Apparel, Division Office, Winston-Salem, North Carolina who was adversely affected by increased imports.

The amended notice applicable to TA-W-57,802 is hereby issued as follows:

All workers of Sara Lee Branded Apparel, Division Office, Division of the Sara Lee Corporation, Winston-Salem, North Carolina (TA-W-57,802), and including employees of Sara Lee Branded Apparel, Division, Office, Winston Salem, North Carolina, located in Bristol, Connecticut (TA-W-57,802A), Norwalk, Connecticut (TA-W-57,802B), Madison, Connecticut (TA-W-57,802C) and New Canaan, Connecticut (TA-W-57,802D), who became totally or partially separated from employment on or after July 29, 2004, through September 28, 2007, are eligible to apply for adjustment assistance under Section 223 of the Trade Act of 1974.

I further determine that all workers of Sara Lee Branded Apparel, Division of the Sara Lee Corporation, Winston-Salem, North Carolina, are denied eligibility to apply for alternative trade adjustment assistance under Section 246 of the Trade Act of 1974.

Signed at Washington, DC, this 27th day of February 2006.
Elliott S. Kushner,
Certifying Officer, Division of Trade Adjustment Assistance.

[FR Doc. E6-4288 Filed 3-23-06; 8:45 am]

BILLING CODE 4510-30-P